DEPARTMENT OF COMMERCE

International Trade Administration

[A-423-808]

Stainless Steel Plate in Coils From Belgium; Preliminary Results of Antidumping Duty Administrative Review

AGENCY: Import Administration, International Trade Administration, Department of Commerce.

ACTION: Notice of Preliminary Results of Antidumping Duty Administrative Review.

SUMMARY: The Department of Commerce (the Department) is conducting an administrative review of the antidumping duty order on stainless steel plate in coils from Belgium. The review covers exports of this merchandise to the United States for the period November 4, 1998 through April 30, 2000, by ALZ, N.V. (ALZ), manufacturer and exporter of subject merchandise. The respondent ALZ withdrew, on a timely basis, its request for a review and also requested the return or destruction of its information from the record. In light of the petitioners' request to continue the review process, and ALZ's withdrawal of its information from the record, we are preliminarily determining that adverse facts available must be applied with respect to ALZ. For our analysis on this issue see the “Preliminary Results of Review” below.

EFFECTIVE DATE: February 26, 2001.

FOR FURTHER INFORMATION CONTACT: Elfi Blum or Abdelali Elouaradia, Import Administration, International Trade Administration, U.S. Department of Commerce, 14th Street and Constitution Avenue NW., Washington, DC 20230 at (202) 482-0197 or (202) 482-1374, respectively.

SUPPLEMENTARY INFORMATION:

Applicable Statute and Regulations

Unless otherwise indicated, all citations to the statute are references to the provisions effective January 1, 1995, the effective date of the amendments made to the Tariff Act of 1930 (the Act) by the Uruguay Round Agreements Act (URAA). In addition, unless otherwise indicated, all citations to the Department's regulations are to the regulations codified at 19 CFR Part 351 (2000).

Background

On May 21, 1999, the Department published in the Federal Register the antidumping duty order on certain stainless steel plate in coils from Belgium (64 FR 27756). On May 31, 2000, in accordance with 19 CFR 351.213, respondent ALZ and its affiliated U.S. importer TrefilARBED, Inc., and the petitioners, Allegheny Ludlum, AK Steel Corporation (formerly Armco, Inc.), J&L Speciality Steel Inc., North American Stainless, Butler-Armco Independent Union, Zanesville Armco Independent Union, and the United Steelworkers of America, AFL-CIO/CLC (collectively, petitioners), requested a review of the antidumping duty order on certain stainless steel plate in coils from Belgium. On July 7, 2000, we published a notice of “Initiation of Antidumping Review.” See 65 FR 41942. On August 14, September 5, and September 15, 2000, ALZ responded to sections A, B and D, then C, respectively, of the Department's antidumping questionnaire. On October 5, 2000, ALZ submitted a timely request for withdrawal from the administrative review pursuant to section 351.213(d) of the Department's regulations, and requested the return or destruction of its questionnaire responses. On October 20, 2000, the petitioners stated their request to continue the administrative review, and objected to ALZ's request for the return or destruction of the information submitted in the course of the proceeding. In accordance with the Department's practice, we granted ALZ its request to remove its questionnaire responses from the Department's record. For a detailed discussion regarding the removal of questionnaire responses from the administrative record, see Memorandum to Barbara E. Tillman through Sally Gannon from Abdelali Elouaradia: Return or Destruction of ALZ, N.V. Questionnaire Response, December 19, 2000. Given that petitioners also requested a review, we continued conducting this administrative review pursuant to section 751(a) of the Act.

Scope of Review

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of these orders are the following: (1) Plate not in coils, (2) plate that is not annealed or otherwise heat treated and pickled or otherwise descaled, (3) sheet and strip, and (4) flat bars. In addition, certain cold-rolled stainless steel plate in coils is also excluded from the scope of these orders. The excluded cold-rolled stainless steel plate in coils is defined as that merchandise which meets the physical characteristics described above that has undergone a cold-reduction process that reduced the thickness of the steel by 25 percent or more, and has been annealed and pickled after this cold reduction process.

The merchandise subject to these orders is currently classifiable in the Harmonized Tariff Schedule of the United States (HTS) at subheadings: 7219.11.00.30, 7219.11.00.60, 7219.12.00.06, 7219.12.00.21, 7219.12.00.26, 7219.12.00.51, 7219.12.00.56, 7219.12.00.66, 7219.12.00.71, 7219.12.00.81, 7219.90.00.10, 7219.90.00.20, 7219.90.00.25, 7219.90.00.60, 7219.90.00.80, 7220.11.00.00, 7220.90.00.10, 7220.90.00.15, 7220.90.00.60, and 7220.90.00.80. Although the HTS subheadings are provided for convenience and Customs purposes, the written description of the scope of the orders is dispositive.

Period of Review

The period of review (POR) is November 4, 1998 through April 30, 2000.

Verification

We did not verify any information provided by respondents, as provided in section 782(i) of the Tariff Act. For further information please refer to the section on Application of Facts Available below.

Application of Facts Available

Pursuant to sections 776(a)(1) and (2) of the Act, if necessary information is not available on the record, or if an interested party or any other person (A) withholds information that has been requested by the administering authority; (B) fails to provide such information by the deadlines for the submission of the information or in the form and manner requested; (C) significantly impedes a proceeding under the antidumping statute; or (D) provides such information but the information cannot be verified as provided in section 782(i) of the Act, the administering authority shall, subject to section 782(d) of the Act, use the facts otherwise available in reaching the applicable determination. In this case, notwithstanding ALZ's timely withdrawal from the review, the Department is required to continue the review process because the petitioners did not withdraw their request for review. Consequently, ALZ's withdrawal of its participation in the review, and its request that the company's questionnaire responses be removed from the record, constitute a refusal to provide information necessary to conduct the Department's antidumping analysis, pursuant to section 776(a)(2)(A) of the Act. Moreover, ALZ's withdrawal significantly impedes the review process. See section 776(a)(2)(C) of the Act. Therefore, the Department must resort to facts otherwise available in reaching the applicable determination. Absent any response on the record from ALZ, sections 782(d) and (e) do not apply.

Section 776(b) of the Act further provides that, in selecting from among the facts otherwise available, the Department may use an inference adverse to the interests of a party that has failed to cooperate by not acting to the best of its ability to comply with a request for information (see also the Statement of Administrative Action (SAA), accompanying the URAA, H.R. Rp. No. 316, 103rd Cong., 2d Sess. 870). ALZ's timely withdrawal from the review and its request to return or destroy the company's initial questionnaire responses constitute a refusal to participate in the review, and demonstrate that ALZ failed to cooperate by not acting to the best of its ability to comply with the Department's request for information. Therefore, pursuant to section 776(b) of the Act, the Department has determined that an adverse inference is warranted with respect to ALZ.

As adverse facts available, we have applied 16.0 percent, the highest margin alleged in the petition, which is based on a comparison between ALZ's U.S. price and constructed value (CV). See “Import Administration AD Investigation Initiation Checklist” (Initiation Checklist) and Initiation of Antidumping Duty Investigations: Stainless Steel Plate in Coils from Belgium, Canada, Italy, Republic of South Africa, South Korea and Taiwan, 63 FR 20580 (April 27, 1998) for a discussion of the margin calculations in the petition. We note that, in making adverse inferences, the SAA authorizes the Department to consider the extent to which a party may benefit from its own lack of cooperation (SAA at 870). Here, for purposes of our preliminary determination, we have carefully analyzed the rates contained in the petition and the rates in the less-than-fair-value (LTFV) investigation. Given that the 16.0 percent rate is the highest rate derived from the petition, and that ALZ's final calculated dumping margin from the LTFV investigation was 9.86 percent, we find that the 16.0 percent rate will prevent ALZ from benefitting from its decision not to participate in this review. If parties wish to submit information which they view as more appropriate or relevant for use as adverse facts available, they should submit that information no later than 15 days after publication of this notice.

Corroboration

Section 776(c) of the Act provides that, when the Department relies on secondary information in using the facts otherwise available, it must, to the extent practicable, corroborate that information from independent sources that are reasonably at its disposal. The SAA defines secondary information as “information derived from the petition that gave rise to the investigation or review, the final determination concerning the subject merchandise, or any previous review” (see SAA at 870). In addition, the SAA clarifies that “corroborate” means that the Department will satisfy itself that the secondary information to be used has probative value (see id.). The SAA also states that independent sources used to corroborate may include, for example, published price lists, official import statistics and customs data, as well as information obtained from interested parties during the particular investigation (see id.).

In this case, to corroborate the margin calculations in the petition, we examined the basis of the price-to-CV rate of 16.0 percent, contained in the petition of March 31, 1998. The U.S. prices in the petition were based on quotes to U.S. customers obtained through market research. The normal value was based on market research data, consumption data from multiple sources, and ALZ's financial statements.

In accordance with section 776(c) of the Act, to the extent practicable, we examined the key elements of the export price and normal value calculations on which the margins in the petitions were based. This information includes evidence such as customs statistics or market studies which are considered reliable because they are based on actual, independent trade data and analysis. We were able to corroborate the U.S. price in the petition by comparing these prices to publicly available information compiled by the U.S. Census Bureau and made available by the International Trade Commission (ITC). The ITC reports quantity and value by HTS numbers. Export Prices which are based on U.S. import statistics are considered corroborated (see Certain Cut-to-Length Carbon Steel Plate from Mexico: Final Results of Antidumping Duty Administrative Review, 64 FR 76, 84 (January 4, 1999) (Comment 13) (CTL Plate from Mexico). Normal value calculations contained in the petition, similar to the U.S. price calculations, were based on both actual independent trade data and analysis, as well as ALZ's own public information. The Department is aware of no other independent sources of information that would enable us to further corroborate the petition's margin calculations.

The implementing regulation for section 776 of the Act, codified at 19 CFR 351.308(c), states: “(t)he fact that corroboration may not be practicable in a given circumstance will not prevent the Secretary from applying an adverse inference as appropriate and using the secondary information in question.” Additionally, we note that the SAA at 870 specifically states that where “corroboration may not be practicable in a given circumstance,” the Department may nevertheless apply an adverse inference. The SAA at 869 emphasizes that the Department need not prove that the facts available are the best alternative information. Therefore, based on our efforts, described above, to corroborate information contained in the petition, and in accordance with section 776(c) of the Act which discusses facts available and corroboration, we consider the 16.0 percent margin in the petition to be corroborated to the extent practicable for purposes of this preliminary determination (see CTL Plate from Mexico, 64 FR at 84).

Finally, we find that the petition information is relevant with respect to ALZ because, as discussed above, the normal value calculations were partially based on ALZ's publicly available data (Financial Statement), while the U.S. price is an actual price quote from ALZ. Thus, we conclude that the 16.0 percent, the highest rate from the petition, is not outdated, and is relevant with respect to ALZ. Moreover, we find that this rate is a reasonably accurate estimate of ALZ's actual rate from the LTFV investigation, with the built-in increase to prevent ALZ's non-compliance in the future. See De Cecco v. United States, 216 F.3d 1027, 1032 (Fed. Cir. June 16, 2000); and World Finer Foods v. United States, Consol. Court No. 99-03-00138, Slip Op. 2000-72 (June 26, 2000).

Preliminary Results of Review

As a result of our review, we preliminarily determine the antidumping margin for ALZ, based on total adverse facts available for the period November 4, 1998 through April 30, 2000, to be as follows:

Manufacturer/exporter | Margin (percent)
ALZ, N.V | 16.00
All Others | 9.86

Any interested party may request a hearing within 30 days of the date of publication of this notice. Any hearing, if requested, will be held 37 days after the date of publication or the first business day thereafter. Case briefs from interested parties may be submitted not later than 30 days after the date of publication. Given the fact that respondent in this proceeding withdrew its information, we invite petitioners to provide relevant public and probative information for use as adverse facts available. Rebuttal briefs, limited to issues raised in case briefs, may be filed not later than five days after the date of filing of case briefs. The Department intends to issue the final results of this administrative review, including its analysis of issues raised in the case and rebuttal briefs, not later than 120 days after the date of publication of this notice.

Upon issuance of the final results of this review, the Department shall determine, and the U.S. Customs Service shall assess, antidumping duties on all appropriate entries. Upon completion of this review, the Department will issue appraisement instructions directly to the Customs Service.

Furthermore, the following deposit requirements will be effective upon publication of the final results of these reviews for all shipments of stainless steel plate in coils from Belgium entered, or withdrawn from warehouse, for consumption on or after the publication date, as provided for by section 751(a)(1) of the Act: (1) The cash deposit rate for the reviewed company will be the rate established in the final results of this review; (2) for merchandise exported by manufacturers or exporters not covered in these reviews but covered in the original investigation of sales at LTFV or a previous review, the cash deposit will continue to be the company-specific rate published for the most recent period; (3) if the exporter is not a firm covered in this or a previous review, or the original LTFV investigation, but the manufacturer is, the cash deposit rate will be the rate established for the most recent period for the manufacturer of the merchandise; and (4) for all other producers and/or exporters of this merchandise, the cash deposit rate shall be 9.86 percent, the “all others” rate established in the LTFV investigation (64 FR 15476, March 31, 1999).

These deposit rates, when imposed, shall remain in effect until publication of the final results of the next administrative review. This notice also serves as a preliminary reminder to importers of their responsibility under 19 CFR § 351.402(f) to file a certificate regarding the reimbursement of antidumping duties prior to liquidation of the relevant entries during this review period. Failure to comply with this requirement could result in the Secretary's presumption that reimbursement of antidumping duties occurred and the subsequent assessment of double antidumping duties.

This administrative review and notice are issued and published in accordance with sections 751(a)(1) and (a)(2)(B) of the Act (19 USC 1675(a)) and 19 CFR §§ 351.213. Effective January 20, 2001, Bernard T. Carreau is fulfilling the duties of the Assistant Secretary for Import Administration.

Dated: January 31, 2001.
Bernard T. Carreau,
Deputy Assistant Secretary, AD/CVD Enforcement II.

[FR Doc. 01-4664 Filed 2-23-01; 8:45 am]

BILLING CODE 3510-DS-P